DEPARTMENT OF ENERGY

Federal Energy Regulatory Commission

Combined Notice of Filings

Take notice that the Commission has received the following Natural Gas Pipeline Rate and Refund Report filings:

Filings Instituting Proceedings

Docket Numbers: PR14-25-000.

Applicants: Moss Bluff Hub, LLC.

Description: Tariff filing per 284.123(e)/.224: No-notice Service to be effective 3/1/2014; TOFC 770.

Filed Date: 2/25/14.

Accession Number: 20140225-5029.

Comments Due: 5 p.m. ET 3/18/14.

Docket Numbers: PR14-26-000.

Applicants: Bay Gas Storage, LLC.

Description: Tariff filing per 284.123(e)/.224; Annual Company Use Percentage 2014 to be effective 3/1/2012; TOFC: 770.

Filed Date: 2/27/14.

Accession Number: 20140227-5124.

Comments Due: 5 p.m. ET 3/20/14.

Docket Numbers: RP14-524-000.

Applicants: Viking Gas Transmission Company.

Description: LMCRA—Spring 2014 to be effective 4/1/2014.

Filed Date: 2/27/14.

Accession Number: 20140227-5047.

Comments Due: 5 p.m. ET 3/11/14.

Docket Numbers: RP14-525-000.

Applicants: Ruby Pipeline, L.L.C.

Description: FL&U and EPC effective April 1, 2014 to be effective 4/1/2014.

Filed Date: 2/27/14.

Accession Number: 20140227-5057.

Comments Due: 5 p.m. ET 3/11/14.

Docket Numbers: RP14-526-000.

Applicants: Transcontinental Gas Pipe Line Company.

Description: Annual Electric Power Tracker Filing effective April 1, 2014 to be effective 4/1/2014.

Filed Date: 2/27/14.

Accession Number: 20140227-5063.

Comments Due: 5 p.m. ET 3/11/14.

Docket Numbers: RP14-527-000.

Applicants: Northwest Pipeline LLC.

Description: South Seattle Incremental Rate Update to be effective 4/1/2014.

Filed Date: 2/27/14.

Accession Number: 20140227-5082.

Comments Due: 5 p.m. ET 3/11/14.

Docket Numbers: RP14-528-000.

Applicants: Transcontinental Gas Pipe Line Company.

Description: Remove x-274 & X-275 References to be effective 4/1/2014.

Filed Date: 2/27/14.

Accession Number: 20140227-5090.

Comments Due: 5 p.m. ET 3/11/14.

Docket Numbers: RP14-529-000.

Applicants: High Island Offshore System, L.L.C.

Description: High Island Offshore System, L.L.C. submits 2014 Annual Fuel Filing for calendar year 2013 activity.

Filed Date: 2/27/14.

Accession Number: 20140227-5096.

Comments Due: 5 p.m. ET 3/11/14.

Docket Numbers: RP14-530-000.

Applicants: Natural Gas Pipeline Company of America.

Description: Removing Expired/Expiring Agreements to be effective 4/1/2014.

Filed Date: 2/27/14.

Accession Number: 20140227-5098.

Comments Due: 5 p.m. ET 3/11/14.

Docket Numbers: RP14-531-000.

Applicants: Northwest Pipeline LLC.

Description: 2014 Summer Fuel Filing to be effective 4/1/2014.

Filed Date: 2/27/14.

Accession Number: 20140227-5108.

Comments Due: 5 p.m. ET 3/11/14.

Docket Numbers: RP14-532-000.

Applicants: Natural Gas Pipeline Company of America.

Description: Tenaska LPS-RO142972 to be effective 3/1/2014.

Filed Date: 2/27/14.

Accession Number: 20140227-5118.

Comments Due: 5 p.m. ET 3/11/14.

Docket Numbers: RP14-533-000.

Applicants: Noble Energy, Inc., Foundation Energy Management, LLC.

Description: Joint Petition for Temporary Waiver of Commission Policies, Capacity Release Regulations and Related Tariff Provisions of Noble Energy, Inc and Foundation Energy Management, LLC.

Filed Date: 2/27/14.

Accession Number: 20140227-5122.

Comments Due: 5 p.m. ET 3/6/14.

Docket Numbers: RP14-534-000.

Applicants: LA Storage, LLC.

Description: LA Storage Annual Adjustment of Fuel Retainage Percentage 2014 to be effective 10/1/2013.

Filed Date: 2/27/14.

Accession Number: 20140227-5125.

Comments Due: 5 p.m. ET 3/11/14.

Docket Numbers: RP14-535-000.

Applicants: High Point Gas Transmission, LLC.

Description: Annual Unaccounted for Gas Retention Percentage Filing of High Point Gas Transmission, LLC.

Filed Date: 2/27/14.

Accession Number: 20140227-5126.

Comments Due: 5 p.m. ET 3/11/14.

Docket Numbers: RP14-536-000.

Applicants: Rockies Express Pipeline LLC.

Description: 2014 Annual FL&U Percentage Adjustment to be effective 4/1/2014.

Filed Date: 2/27/14.

Accession Number: 20140227-5136.

Comments Due: 5 p.m. ET 3/11/14.

Docket Numbers: RP14-537-000.

Applicants: Transcontinental Gas Pipe Line Company.

Description: Negotiated Rates—Cherokee AGL—Replacement Shippers—Mar 2014 to be effective 3/1/2014.

Filed Date: 2/27/14.

Accession Number: 20140227-5224.

Comments Due: 5 p.m. ET 3/11/14.

Docket Numbers: RP14-538-000.

Applicants: Midwestern Gas Transmission Company.

Description: PAL Negotiated Rate Agreement—NJR Energy Services to be effective 2/27/2014.

Filed Date: 2/27/14.

Accession Number: 20140227-5227.

Comments Due: 5 p.m. ET 3/11/14.

Docket Numbers: RP14-539-000.

Applicants: Kern River Gas Transmission Company.

Description: 2014 Daggett Surcharge to be effective 4/1/2014.

Filed Date: 2/28/14.

Accession Number: 20140228-5001.

Comments Due: 5 p.m. ET 3/12/14.

Docket Numbers: RP14-540-000.

Applicants: Paiute Pipeline Company.

Description: 2014 Rate Case to be effective 4/1/2014.

Filed Date: 2/28/14.

Accession Number: 20140228-5002.

Comments Due: 5 p.m. ET 3/12/14.

Docket Numbers: RP14-541-000.

Applicants: Sabine Pipe Line LLC.

Description: Sabine's Annual LUAF and Fuel Filing to be effective 4/1/2014.

Filed Date: 2/28/14.

Accession Number: 20140228-5003.

Comments Due: 5 p.m. ET 3/12/14.

Docket Numbers: RP14-542-000.

Applicants: Cheyenne Plains Gas Pipeline Company, L.

Description: CPG Non-Conforming Negotiated Rate Update Filing to be effective 3/1/2014.

Filed Date: 2/28/14.

Accession Number: 20140228-5005.

Comments Due: 5 p.m. ET 3/12/14.

Docket Numbers: RP14-543-000.

Applicants: Equitrans, L.P.

Description: Non-conforming & Negotiated Rate Service Agreements—PNG, PTWP & Antero to be effective 4/1/2014.

Filed Date: 2/28/14.

Accession Number: 20140228-5006.

Comments Due: 5 p.m. ET 3/12/14.

Docket Numbers: RP14-544-000.

Applicants: Panhandle Eastern Pipe Line Company, LP.

Description: Fuel Filing on 2-28-2014 to be effective 4/1/2014.

Filed Date: 2/28/14.

Accession Number: 20140228-5023.

Comments Due: 5 p.m. ET 3/12/14.

Docket Numbers: RP14-545-000.

Applicants: Trunkline Gas Company, LLC.

Description: Fuel Filing on 2-28-2014 to be effective 4/1/2014.

Filed Date: 2/28/14.

Accession Number: 20140228-5024.

Comments Due: 5 p.m. ET 3/12/14.

Docket Numbers: RP14-546-000.

Applicants: Southwest Gas Storage Company.

Description: Fuel Filing on 2-28-2014 to be effective 4/1/2014.

Filed Date: 2/28/14.

Accession Number: 20140228-5025.

Comments Due: 5 p.m. ET 3/12/14.

Docket Numbers: RP14-547-000.

Applicants: Northern Border Pipeline Company.

Description: BP Canada Energy Mktg Agmt to be effective 3/1/2014.

Filed Date: 2/28/14.

Accession Number: 20140228-5026.

Comments Due: 5 p.m. ET 3/12/14.

Docket Numbers: RP14-548-000.

Applicants: Elba Express Company, L.L.C.

Description: Cost and Revenue Study.

Filed Date: 2/28/14.

Accession Number: 20140228-5028.

Comments Due: 5 p.m. ET 3/12/14.

Docket Numbers: RP14-549-000.

Applicants: ANR Pipeline Company.

Description: Fuel Filing 2014 to be effective 4/1/2014.

Filed Date: 2/28/14.

Accession Number: 20140228-5039.

Comments Due: 5 p.m. ET 3/12/14.

Docket Numbers: RP14-550-000.

Applicants: Columbia Gulf Transmission, LLC.

Description: TRA 2014 to be effective 4/1/2014.

Filed Date: 2/28/14.

Accession Number: 20140228-5040.

Comments Due: 5 p.m. ET 3/12/14.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

Filings in Existing Proceedings

Docket Numbers: RP14-499-001.

Applicants: Northwest Pipeline LLC.

Description: Conditional Service Agreement Extensions Ammendment to be effective 4/1/2014.

Filed Date: 2/26/14.

Accession Number: 20140226-5159.

Comments Due: 5 p.m. ET 3/10/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated February 28, 2014.
Nathaniel J. Davis, Sr.,
Deputy Secretary.

[FR Doc. 2014-05048 Filed 3-7-14; 8:45 am]

BILLING CODE 6717-01-P